DEPARTMENT OF HOMELAND SECURITY

48 CFR Part 3052

[Docket No. DHS-2009-0085]

RIN 1601-AA28

Homeland Security Acquisition Regulation (HSAR); Revision Initiative [HSAR Case 2009-002]; Correction

AGENCY: Office of the Chief Procurement Officer, DHS.

ACTION: Final rule; correction.

SUMMARY: DHS is correcting a final rule that appeared in the Federal Register of August 22, 2012. As published, the final rule incorrectly uses the word (DATE) in several places in part 3052 of title 48 of the Code of Federal Regulations. We are correcting each instance of (DATE) to correctly state the appropriate date of “(SEP 2012)”. The final rule amended multiple sections of the Homeland Security Acquisition Regulation (HSAR) to align existing content with the Federal Acquisition Regulation (FAR); implemented Section 695 of the Post-Katrina Emergency Management Reform Act of 2006 by restricting the length of certain noncompetitive contracts entered into by the Department of Homeland Security to facilitate the response to or recovery from a natural disaster, act of terrorism, or other manmade disaster; clarified agency acquisition regulations; and made editorial corrections.

DATES: Effective September 21, 2012.

FOR FURTHER INFORMATION CONTACT: Teresa McConahie, Office of the Chief Procurement Officer, Department of Homeland Security, (202) 447-0271.

SUPPLEMENTARY INFORMATION: As published, the final rule incorrectly uses the word (DATE) in several places in part 3052 of title 48 of the Code of Federal Regulations. We are correcting each instance of (DATE) to correctly state the appropriate date of “(SEP 2012)”. In FR Doc. 2012-20440 appearing on page 50631 in the Federal Register of Wednesday, August 22, 2012, the following corrections are made:

§ 3052.203-70 [Corrected]

1. On page 50636, in the first column, amending section 3052.203-70, the title of the clause “Instructions for Contractor Disclosure of Violations ([DATE])” is corrected to read “Instructions for Contractor Disclosure of Violations (SEP 2012)”.

§ 3052.204-71 [Corrected]

2. On page 50636, in the second column, amending section 3052.204-71, the title of the section “3052.204-71 Contractor employee access ([DATE])” is corrected to read “3052.204-71 Contractor Employee Access (SEP 2012)”.

3. On page 50636, amending section 3052.204-71, in the second column, “Alternate I ([DATE])” is corrected to read “Alternate I (SEP 2012)”.

§ 3052.205-70 [Corrected]

4. On page 50636, amending section 3052.205-70, in the second column, the title of the clause “Advertisements, Publicizing Awards, and Releases ([DATE])” is corrected to read “Advertisements, Publicizing Awards, and Releases (SEP 2012).”

5. On page 50636, amending section 3052.205-70, in the third column, “Alternate I ([DATE])” is corrected to read “Alternate I (SEP 2012)”.

§ 3052.212-70 [Corrected]

6. On page 50636, amending section 3052.212-70, in the third column, the title of the clause “Contract Terms and Conditions Applicable to DHS Acquisition of Commercial Items ([DATE])” is corrected to read “Contract Terms and Conditions Applicable to DHS Acquisition of Commercial Items (SEP 2012)”.

7. On page 50637, amending section 3052.212-70, in the first column, in amendatory instruction 39., “([DATE])” is corrected to read “(SEP 2012)”.

Christina E. McDonald,
Associate General Counsel for Regulatory Affairs, Department of Homeland Security.

[FR Doc. 2012-21961 Filed 9-5-12; 8:45 am]

BILLING CODE 9110-9B-P